DEPARTMENT OF HEALTH AND HUMAN SERVICES

Administration for Community Living

Agency Information Collection Activities; Submission for OMB Review; Public Comment Request; Administration on Disabilities Evaluation of Technical Assistance for Independent Living Grantees OMB Control Number 0985—New

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the Administration on Disabilities Evaluation of Technical Assistance for Independent Living Grantees.

DATES: Submit written comments on the collection of information by May 3, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC, 20201, (202) 795-7606, or OILPPRAComments@acl.hhs.gov.

SUPPLEMENTARY INFORMATION: In compliance with 44 U.S.C. 3507, ACL has submitted the following proposed collection of information to OMB for review and clearance.

The Administration for Community Living (ACL) is requesting approval to collect data for the Administration on Disabilities Evaluation of Technical Assistance for Independent Living Grantees.

ACL is currently engaged in an effort to better understand the implementation and effectiveness of the technical assistance (TA) provided to Independent Living (IL) grantees (Centers for Independent Living (CILs), statewide independent living councils (SILCs), and designated state entities (DSEs)).

The Rehabilitation Act of 1973, as amended authorizes the IL grantees to provide, expand, and improve independent living services for people with disabilities. Title VII, Part C authorizes funding to CILs.

Section 711A(a) requires ACL to reserve funds for training and TA to SILCs, and section 721(b)(1) requires ACL to reserve funds for training and TA to CILs.

TA efforts can support IL grantees in creating and maintaining effective organizations and services. TA, such as one-on-one TA, peer-to-peer mentoring, and webinars, is made available by the Independent Living Research Utilization (ILRU) program, the Association of Programs for Rural Independent Living (APRIL), the National Association of Statewide Independent Living Councils (NASILC), the National Council on IL (NCIL), and the TA centers that ACL funds, including the Disability Employment TA Center (DETAC) and the Federal Housing and Services Resource Center (HSRC) (referred to as AoD TA providers).

Although ACL monitors these AoD TA providers activities, the effectiveness of the TA approach has yet to be assessed. The goal of this data-collection effort is to provide ACL with IL-grantee feedback on the TA approach, including what elements are effective, that can be incorporated into a future TA strategy that is most beneficial to IL grantees. In this IC, ACL will be surveying a total of approximately 464 Part C CILs, DSEs, and SILCs. The web-based survey will be sent electronically to representatives from all Part C CILs, SILCs, and DSEs. ACL will provide the survey in alternative modes, such as by mail or telephone, on grantee request an alternative mode can be provided. Results from this survey will provide ACL with a better understanding of the implementation and effectiveness of the current TA approach from the perspective of IL grantees.

Comments in Response to the 60-Day Federal Register Notice

There were no public comments received during the 60-day FRN.

Estimated Program Burden: ACL estimates the burden of this collection of information as follows: The survey will be sent to approximately 464 representatives of CILs, SILCs, and DSEs. The approximate burden for web-based survey completion will be 25 minutes per respondent, which includes time to review the instructions, read the questions, and complete responses. This results in a total survey burden estimate of 11,600 minutes, which is 193.333 hours.

Respondent/data collection activity | Number of respondents | Responses per respondent | Hours per response | Annual burden hours *
Survey | 464 | 1 | 0.41667 | 193.333
Total: | 464 | 1 | 0.41667 | 193.333

Dated: March 28, 2023.
Alison Barkoff,
Acting Administrator and Assistant Secretary for Aging.

[FR Doc. 2023-06789 Filed 3-31-23; 8:45 am]

BILLING CODE 4154-01-P